DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of 2 individuals and 1 entity whose property and interests in property are blocked pursuant to Executive Order 13224 of September 23, 2001, “Blocking Property and Prohibiting Transactions With Persons Who Commit, Threaten To Commit, or Support Terrorism.”

DATES: OFAC's actions described in this notice are effective on January 28, 2016.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On January 28, 2016, OFAC blocked the property and interests in property of the following 2 individuals and 1 entity pursuant to E.O. 13224, “Blocking Property and Prohibiting Transactions With Persons Who Commit, Threaten To Commit, or Support Terrorism”:

Individuals

1. NOUREDDINE, Mohamad (a.k.a. NUR-AL-DIN, Muhammad Mustafa); DOB 23 Oct 1974; POB Beirut, Lebanon; nationality Lebanon; Gender Male; Passport RL0629138 (Lebanon) (individual) [SDGT] (Linked To: HIZBALLAH).

2. ZAHER EL DINE, Hamdi (a.k.a. ZAHREDDINE, Hamdi); DOB 20 Jul 1984; nationality Lebanon; Gender Male; Passport RL2146270 (Lebanon) (individual) [SDGT] (Linked To: HIZBALLAH).

Entity

1. TRADE POINT INTERNATIONAL S.A.R.L., 3rd Floor, Gulf Building, Block B, Hafez Al Asad Street, Airport Highway, Bir Hassan, Beirut, Lebanon; Gulf Building, 3rd Floor, Hafiz Al Asad Autostrade, Ghobeiri, Baabda, Lebanon; Registration ID 2020615 [SDGT] (Linked To: NOUREDDINE, Mohamad).

Dated: January 28, 2016.
John E. Smith,
Acting Director, Office of Foreign Assets Control.

[FR Doc. 2016-02038 Filed 2-3-16; 8:45 am]

BILLING CODE 4810-AL-P